NUCLEAR REGULATORY COMMISSION

[Docket No. 030-38679-LA; ASLBP No. 21-972-01-LA-BD01]

Cammenga and Associates, LLC (Denial of License Amendment Requests); Notice of Atomic Safety and Licensing Board Reconstitution

Pursuant to 10 CFR 2.313(c) and 2.321(b), the Atomic Safety and Licensing Board in the above-captioned Cammenga and Associates, LLC proceeding is hereby reconstituted as follows: Administrative Judge G. Paul Bollwerk, III, is designated to serve as Chairman in place of Administrative Judge Ronald M. Spritzer, who is retiring on July 30, 2022.¹

¹ Judge Spritzer served with distinction on the Atomic Safety and Licensing Board Panel for over fourteen years, having been appointed as a full-time Administrative Judge in March 2008.

All correspondence, documents, and other materials shall continue to be filed in accordance with the NRC E-filing rule. See 10 CFR 2.302 et seq.

Rockville, Maryland

Dated: July 25, 2022.
Edward R. Hawkens,
Chief Administrative Judge, Atomic Safety and Licensing Board Panel.

[FR Doc. 2022-16232 Filed 7-27-22; 8:45 am]

BILLING CODE 7590-01-P